DEPARTMENT OF ENERGY

Federal Energy Regulatory Commission

[Docket No. ER99-1522-003, et al.]

Bangor Hydro-Electric Company, et al.; Electric Rate and Corporate Filings

March 8, 2005.

The following filings have been made with the Commission. The filings are listed in ascending order within each docket classification.

1. Bangor Hydro-Electric Company, Emera Energy Services, Inc., Emera Energy U.S. Subsidiary No. 1, Inc.

[Docket Nos. ER99-1522-003, ER02-723-002, and ER04-359-001]

Take notice that on March 1, 2005, Bangor Hydro-Electric Company (Bangor Hydro), Emera Energy Services, Inc. (EES) and Emera Energy U.S. Subsidiary No. 1, Inc. (Emera Energy Sub No. 1) tendered for filing a triennial market power analysis and tariff revisions in compliance with Order No. 652, Reporting Requirements for Changes in Status for Public Utilities with Market-Based Rate Authority, 110 FERC ¶ 61,097 (2005).

Bangor Hydro, EES and Emera Energy Sub No. 1 state that copies of the filing were served on the parties listed on the official service lists, their market-based rate tariff jurisdictional customers, the Maine Public Utilities Commission and Maine's Office of Public Advocate.

Comment Date: 5 p.m. eastern time on March 22, 2005.

2. Astoria Energy LLC

[Docket No. ER01-3103-007]

Take notice that on March 1, 2005, Astoria Energy LLC filed a triennial updated market power analysis and revised tariff sheets in compliance with Order No. 652, Reporting Requirements for Changes in Status for Public Utilities with Market-Based Rate Authority, 110 FERC ¶ 61,097 (2005).

Comment Date: 5 p.m. eastern time on March 22, 2005.

3. Devon Power LLC, Middletown Power LLC, Montville Power LLC, Norwalk Power LLC, NRG Power Marketing Inc.

[Docket No. ER04-23-009]

Take notice that on March 1, 2005, Devon Power LLC, Middletown Power LLC, Montville Power LLC and Norwalk Power LLC (collectively, NRG) tendered for filing a statement showing the C-1 and C-2 costs incurred during the period April 1, 2004, through December 31, 2004, in compliance with the Commission's order issued January 27, 2005, in ISO New England., et al., 110 FERC ¶ 61,079 (2005).

Comment Date: 5 p.m. eastern time on March 22, 2005.

4. Midwest Independent Transmission System Operator, Inc.

[Docket No. ER05-662-000]

Take notice that on March 1, 2005, the Midwest Independent Transmission System Operator, Inc. (Midwest ISO) submitted a large generator interconnection agreement among Darlington Wind Farm, LLC, American Transmission Company LLC and the Midwest ISO.

Midwest ISO states that a copy of the filing was served on the parties to the interconnection agreement.

Comment Date: 5 p.m. eastern time on March 22, 2005.

5. New England Power Pool

[Docket No. ER05-663-000]

Take notice that on March 1, 2005, the New England Power Pool (NEPOOL) Participants Committee filed for acceptance materials to permit NEPOOL to expand its membership to include the Lincoln Paper and Tissue, Inc. (Lincoln Paper), PPM Energy, Inc. (PPM Energy) and Rentricity Inc. (Rentricity). The Participants Committee requests effective dates of March 1, 2005, for Lincoln Paper, April 1, 2005, for Rentricity and May 1, 2005, for PPM Energy.

The Participants Committee states that copies of the materials were sent to the New England state governors and regulatory commissions and the participants in NEPOOL.

Comment Date: 5 p.m. eastern time on March 22, 2005.

6. Southwest Power Pool, Inc.

[Docket No. ER05-666-000]

Take notice that on March 1, 2005, Southwest Power Pool, Inc. (SPP) submitted revisions to its regional Open Access Transmission Tariff (OATT or Tariff) proposing the following: (1) To revise Section 3 of its OATT to add a new Schedule 4-A to offer Generation Imbalance Service as an ancillary service; (2) to revise Section 10 of its OATT in order to provide more extensive liability protection under its OATT; (3) to revise section 34 of its OATT in order to resolve the problem of associated with adjusting for point-to-point reservations when the reservations are on an RTO, not an individual Transmission Owner basis; (4) to modify Schedule 9 of its OATT to provide Transmission Owners taking Network Integration Transmission Service under the OATT the opportunity to not pay otherwise applicable monthly demand charges if such Transmission Owners would have received, pursuant to Attachment L of the OATT, the amount they seek not to pay; (5) to put in place a new Attachment AC providing for a one-year experimental process allowing customers requesting short-term firm point-to- point service to obtain service through redispatch which otherwise would have been rejected due to a lack of capacity; and (6) to modify several portions of its OATT in order to correct various zone name references. SPP requests an effective date of May 1, 2005 for the proposed revisions.

SPP states that it has served a copy of its transmittal letter upon each of its embers and customers. SPP further states that a complete copy of this filing will be posted on the SPP Web site http://www.spp.org, and is also being served on all affected state commissions.

Comment Date: 5 p.m. eastern time on March 22, 2005.

7. Commonwealth Edison Company

[Docket No. ER05-672-000]

Take notice that on March 1, 2005, Exelon Corporation, on behalf of its subsidiary Commonwealth Edison Company, submitted a notice of cancellation for Service Agreement No. C1055 under PJM Interconnection L.L.C.'s FERC Electric Tariff, Sixth Revised Volume No. 1, with Titan Land Development Company, L.L.C., to be effective March 1, 2005.

Exelon Corporation states that the filing has been served on Titan Land Development Company, L.L.C., PJM Interconnection, L.L.C. and the Illinois Commerce Commission.

Comment Date: 5 p.m. eastern time on March 22, 2005.

8. Commonwealth Edison Company

[Docket No. ER05-673-000]

Take notice that on March 1, 2005, Exelon Corporation, on behalf of its subsidiary Commonwealth Edison Company, submitted a notice of cancellation for Service Agreement No. C1054 under PJM Interconnection L.L.C.'s FERC Electric Tariff, Sixth Revised Volume No. 1, with Kendall New Century Development, L.L.C., to be effective March 1, 2005.

Exelon Corporation states that the filing has been served on Kendall New Century Development, L.L.C., PJM Interconnection, L.L.C. and the Illinois Commerce Commission.

Comment Date: 5 p.m. eastern time on March 22, 2005.

9. Southwest Power Pool, Inc.

[Docket Nos. RT04-1-010 and ER04-48-010]

Take notice that on March 1, 2005, Southwest Power Pool, Inc. (SPP) resubmitted the Independent Market Monitoring Services Agreement filed on November 1, 2004, and accepted by the Commission in an order issued January 24, 2005, in Docket Nos. RT04-1-006 and ER04-48-006. SPP states that the tariff revisions, with appropriate page designations pursuant to the Commission's Order No. 614, were resubmitted in accordance with the Commission staff's request.

Comment Date: 5 p.m. eastern time on March 22, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1120 Filed 3-14-05; 8:45 am]

BILLING CODE 6717-01-P